DEPARTMENT OF LABOR

Employment and Training Administration

[TA-W-41,336]

C & W Fabricators Wheelabrator Air Pollution Control, Inc., Gardner, MA; Amended Certification Regarding Eligibility To Apply for Worker Adjustment Assistance

In accordance with section 223 of the Trade Act of 1974 (19 U.S.C. 2273) the Department of Labor issued a Certification of Eligibility to Apply for Worker Adjustment Assistance on July 15, 2002, applicable to workers of C & W Fabricators, Gardner, Massachusetts. The notice was published in the Federal Register on July 29, 2002 (67 FR 49038).

At the request of the State agency, the Department reviewed the certification for workers of the subject firm. The workers are engaged in the production of inlet and exhaust systems for gas turbines.

New information provided by a company official shows that some of the workers separated from employment at C & W Fabricators had their wages reported under a separate unemployment insurance (UI) tax account for Wheelabrator Air Pollution Control, Inc.

Accordingly, the Department is amending the certification to properly reflect this matter.

The intent of the Department's certification is to include all workers of C & W Fabricators, Gardner, Massachusetts, who were adversely affected by a shift in production to Mexico.

The amended notice applicable to TA-W-41,336 is hereby issued as follows:

“All workers of C & W Fabricators, Inc., Wheelabrator Air Pollution Control, Inc., Gardner, Massachusetts, who became totally or partially separated from employment on or after April 4, 2001, through July 15, 2004, are eligible to apply for adjustment assistance under section 223 of the Trade Act of 1974.”

Signed at Washington, DC this 15th day of September 2004.
Linda G. Poole,
Certifying Officer, Division of Trade Adjustment Assistance.

[FR Doc. E4-2329 Filed 9-22-04; 8:45 am]

BILLING CODE 4510-30-P